COMMODITY FUTURES TRADING COMMISSION

Sunshine Act Meeting

Time and Date: 11 a.m., Friday, April 2, 2004.

Place: 1155 21st St., NW., Washington, DC, Room 1012.

Status: Closed.

matters to be considered: Surveillance matters.

FOR FURTHER INFORMATION CONTACT: Jean A. Webb, (202) 418-5100.

Jean A. Webb,
Secretary of the Commission.

[FR Doc. 04-6124 Filed 3-15-04; 1:53 am]

BILLING CODE 6351-01-M